MEDICARE PAYMENT ADVISORY COMMISSION

Commission Meeting

AGENCY: Medicare Payment Advisory Commission.

ACTION: Notice of meeting.

SUMMARY: The Commission will hold its next public meeting on Thursday, October 18, 2001, and Friday, October 19, 2001, at the Ronald Reagan Building, International Trade Center, 1300 Pennsylvania Avenue, NW, Washington, DC. The meeting is tentatively scheduled to begin at 10 a.m. on October 18, and at 9 a.m. on October 19.

Topics for discussion include: quality improvement for health plans and providers; Medicare+Choice; consumer coalitions in Medicare; payment for outpatient pain management procedures; payment for outpatient hospital care in cancer hospitals; assessing payment adequacy; updating Medicare payments; payment for physician services; complexity and regulatory burden of the Medicare program; blood safety requirements; and modernizing the Medicare benefit package.

Agendas will be mailed on October 4, 2001. The final agenda will be available on the Commission's website (www.medpac.gov)

ADDRESS: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 01-25453 Filed 10-10-01; 8:45 am]

BILLING CODE 6820-BW-P